DEPARTMENT OF COMMERCE

International Trade Administration

[A-549-813]

Canned Pineapple Fruit From Thailand: Notice of Extension of Time Limit for Final Results of Antidumping Duty Administrative Review

AGENCY: Import Administration, International Trade Administration, Department of Commerce.

EFFECTIVE DATE: August 9, 2001.

FOR FURTHER INFORMATION CONTACT: Constance Handley or Charles Riggle, Office 5, Group II, AD/CVD Enforcement, Import Administration, International Trade Administration, U.S. Department of Commerce, 14th Street and Constitution Avenue, NW, Washington, DC 20230; telephone: (202) 482-0631 and (202) 482-0650, respectively.

Statutory Time Limits

Section 751(a)(3)(A) of the Tariff Act of 1930, as amended (the Act), requires the Department to make a preliminary determination within 245 days after the last day of the anniversary month of an order for which a review is requested and a final determination within 120 days after the date on which the preliminary determination is published. However, if it is not practicable to complete the review within these time periods, section 751(a)(3)(A) of the Act allows the Department to extend the time limit for the preliminary determination to a maximum of 365 days and for the final determination to 180 days from the date of publication of the preliminary determination (or 300 days if the Department does not extend the time limit for the preliminary determination).

Background

On September 6, 2000, the Department published a notice of initiation of administrative review of the antidumping duty order on canned pineapple fruit from Thailand, covering the period July 1, 1999, through June 30, 2000 (65 FR 53980). On April 10, 2001, the Department published the preliminary results of its administrative review. See Notice of Preliminary Results and Partial Rescission of Antidumping Duty Administrative Review: Canned Pineapple Fruit From Thailand, 66 FR 18596 (April 10, 2001). In our notice of preliminary results, we stated our intention to issue the final results of this review no later than August 8, 2001.

Extension of Time Limit for Final Results of Review

We determine that it is not practicable to complete the final results of this review within the original time limit. Therefore, the Department is extending the time limit for completion of the final results until no later than October 9, 2001. See Decision Memorandum from Gary Taverman to Bernard T. Carreau, dated concurrently with this notice, which is on file in the Central Records Unit, Room B-099 of the main Commerce building.

This extension is in accordance with section 751(a)(3)(A) of the Act.

Dated: August 2, 2001.
Bernard T. Carreau,
Deputy Assistant Secretary for Import Administration.

[FR Doc. 01-20020 Filed 8-8-01; 8:45 am]

BILLING CODE 3510-DS-P